DEPARTMENT OF COMMERCE

National Oceanic and Atmospheric Administration

Coastal Zone Management, Federal Consistency Appeal by John T. Keegan From an Objection by the Puerto Rico Planning Board

AGENCY: National Oceanic and Atmospheric Administration, Commerce.

ACTION: Evidence of death of appellant and request for information.

By letter dated October 26, 1999, John T. Keegan filed with the Secretary of Commerce a notice of appeal pursuant to section 307(c)(3)(A) of the Coastal Zone Management Act (CZMA). The appeal is taken from an objection by the Puerto Rico Planning Board (PRPB) to Appellant's consistency certification for a permit to install 50 helix-screw anchor moorings at Guania Bay, Guanica, Puerto Rico. The CZMA provides that a timely objection by a state precludes any federal agency from issuing licenses or permits for the activity unless the Secretary finds that the activity is either “consistent with the objectives” of the CZMA or “necessary in the interest of security.” Section 307(c)(3)(A). On January 23, 2001, Mr. Keegan filed with the Secretary a brief supporting the appeal. The PRPB filed a reply brief on February 23, 2001. The Secretary published a Federal Register notice and request for comments on March 20, 2001.

The Department of Commerce has received information indicating that John T. Keegan died on May 30, 2001. The Secretary new invites any persons or entities who believe they have some right to continue the consistency appeal in the place of John T. Keegan or any entity in which he might have had an interest, to make their position known to the National Oceanic and Atmospheric Administration. Those persons who believe they have some rights in this particular appeal, as heirs, interest or assigns or otherwise representing John T. Keegan or any company or business of John T. Keegan, should send their views in writing, no later than 30 days from the date of this Notice, to Suzanne Bass, Office of the Assistant General Counsel for Ocean Services, National Oceanic and Atmospheric Administration U.S. Department of Commerce, 1305 East-West Highway, Room 6111, Silver Spring, MD 20910, 301-713-2967.

Federal Domestic Assistance Catalog No. 11.419 Coastal Zone Management Program Assistance.
Dated: September 28, 2001.
Craig O'Connor,
Acting General Counsel.

[FR Doc. 01-26285 Filed 10-17-01; 8:45 am]

BILLING CODE 3510-08-M